DEPARTMENT OF HEALTH AND HUMAN SERVICES

Health Resources and Services Administration

Meeting of the Advisory Commission on Childhood Vaccines

AGENCY: Health Resources and Services Administration (HRSA), Department of Health and Human Services (HHS).

ACTION: Notice.

SUMMARY: The Advisory Commission on Childhood Vaccines (ACCV) has scheduled a public meeting. Information about the ACCV and the agenda for this meeting can be found on the ACCV website at: http://www.hrsa.gov/advisorycommittees/childhoodvaccines/index.html. This notice is being published less than 15 days prior to the meeting date due to unexpected administrative delays.

DATES: December 6, 2018, at 10:00 a.m. ET.

ADDRESSES: This meeting will be held by teleconference and Adobe Connect webinar. The public can join the meeting by:

1. (Audio Portion) Calling the conference phone number 800-988-0218 and providing the following information: Leader Name: Dr. Narayan Nair, Password: 9302948.

2. (Visual Portion) Connect to the ACCV Adobe Connect Meeting using the following URL: https://hrsa.connectsolutions.com/accv/. Participants should call and connect 15 minutes before the meeting starts for logistics to be set up. If you have never attended an Adobe Connect meeting, please test your connection using the following URL: https://hrsa.connectsolutions.com/common/help/en/support/meeting_test.htm Get a quick overview at the following URL: http://www.adobe.com/go/connectpro_overview.

FOR FURTHER INFORMATION CONTACT: Annie Herzog, Program Analyst, Division of Injury Compensation Programs (DICP), HRSA, 5600 Fishers Lane, 08N146B, Rockville, Maryland 20857; 301-443-6593; or aherzog@hrsa.gov.

SUPPLEMENTARY INFORMATION: The ACCV was established by section 2119 of the Public Health Service (PHS) Act (42 U.S.C. 300aa-19), as enacted by Public Law (Pub. L.) 99-660, and as subsequently amended, and advises the Secretary of HHS (the Secretary) on issues related to implementation of the National Vaccine Injury Compensation Program (VICP). During the December 6, 2018, meeting, agenda items will include, but are not limited to, updates from the DICP, Department of Justice (DOJ), National Vaccine Program Office (NVPO), Immunization Safety Office (Centers for Disease Control and Prevention), National Institute of Allergy and Infectious Diseases (National Institutes of Health) and Center for Biologics, Evaluation and Research (Food and Drug Administration). Agenda items are subject to change as priorities dictate. Refer to the ACCV website listed above for any updated information concerning the meeting to include a draft agenda and additional meeting materials that will be posted before the meeting.

Members of the public will have the opportunity to provide comments. Public participants may submit written statements in advance of the scheduled meeting. Oral comments will be honored in the order they are requested and may be limited as time allows. Requests to submit a written statement or make oral comments to the ACCV should be sent to Annie Herzog using the contact information above by Wednesday, December 5, 2018.

Individuals who need special assistance or another reasonable accommodation should notify Annie Herzog at the address and phone number listed above at least 3 business days before the meeting.

Amy P. McNulty,
Acting Director, Division of the Executive Secretariat.

[FR Doc. 2018-26080 Filed 11-29-18; 8:45 am]

BILLING CODE 4165-15-P